DEPARTMENT OF AGRICULTURE

Forest Service

Southwest Oregon Province Interagency Executive Committee (PIEC) Advisory Committee

AGENCY: Forest Service, USDA.

ACTION: Notice of Meeting.

SUMMARY: The Southwest Oregon PIEC Advisory Committee will meet on October 17, 2001 at the Hawthorn Inn and Suites, 243 NE Morgan Lane, at Grants Pass, Oregon. The meeting will begin at 9 a.m. and continue until 5 p.m. Agenda items to be covered include: (1) Province Advisory Committee Operating Guidelines; (2) Public Comment; (3) Discussion of Work Plans for fiscal year 2002; and (4) Current issues as perceived by Advisory Committee members.

FOR FURTHER INFORMATION CONTACT: Direct questions regarding this meeting to Roger Evenson, Province Advisory Committee Coordinator, USDA, Forest Service, Umpqua National Forest, 2900 NW Stewart Parkway, Roseburg, Oregon 97470, phone (541) 957-3344.

Dated: September 28, 2001.
Michael D. Hupp,
Acting Designated Federal Official.

[FR Doc. 01-24870 Filed 10-3-01; 8:45 am]

BILLING CODE 3410-11-M